DEPARTMENT OF ENERGY

Notice of Availability of the Draft Environmental Impact Statement and Public Hearing for a Proposed Federal Loan Guarantee To Support Construction and Start-Up of the Topaz Solar Farm, San Luis Obispo County, CA

AGENCY: U.S. Department of Energy.

ACTION: Notice of Availability of the Draft Environmental Impact Statement and Public Hearing.

SUMMARY: The U.S. Department of Energy (DOE) announces the availability of the Draft Environmental Impact Statement for the DOE Loan Guarantee to Royal Bank of Scotland for Construction and Startup of the Topaz Solar Farm, San Luis Obispo County, California (DOE/EIS-0458D) (Draft EIS) for public review and comment, as well as the date, location and time for a public hearing. The Draft EIS analyzes the potential environmental impacts of the DOE's proposed action of issuing a Federal loan guarantee to support construction and startup of the Topaz Solar Farm Project located in San Luis Obispo County, California (Proposed Project). The Royal Bank of Scotland plc, as Lender-Applicant, with Topaz Solar Farms, LLC (Topaz) as the borrower, submitted an application to DOE under the Federal loan guarantee program pursuant to the Energy Policy Act of 2005 (EPAct 2005). Topaz is a limited liability company that is owned by First Solar, Inc. The loan guarantee would support the financing arranged by the Royal Bank of Scotland for the construction and start up of the Proposed Project.

Topaz proposes to develop the Project on up to 4,100 acres of land. As proposed, the nominal 550-megawatt electric generation project would include the installation of about nine million photovoltaic (PV) solar modules within approximately 437 arrays and associated electric equipment. Generated electricity would be sold to Pacific Gas and Electric (PG&E) under a long-term power purchase agreement. The Project would be interconnected into PG&E's existing Morro Bay-Midway 230-kilovolt (kV) transmission line, which runs in an east-to-west direction through the site and portions of Kern County.

DATES: DOE invites the public to submit comments on the Draft EIS during the public comment period, which began on March 25, 2011 and ends on May 9, 2011. DOE will consider all comments postmarked or received during the comment period in preparing the Final EIS. Comments received or postmarked after May 9, 2011, will be considered to the extent practicable. In addition to receiving comments in writing and by e-mail [See ADDRESSES], DOE will convene a public hearing at which government agencies, private-sector organizations, Native American Tribes and individuals are invited to present oral and written comments on the Draft EIS. The public hearing will be held on April 13, 2011 at the Carrisa Plains Heritage Association Community Center, 10750 Carrisa Highway (Highway 58), Santa Margarita, California, 93458; located approximately one mile east of Soda Lake Road. Oral comments will be heard during the formal portion of the public hearing beginning at 6:30 pm. The public is also invited to an informal Question & Answer Open House beginning at 5:30 pm at the location above, during which DOE and Topaz personnel will be available for individual discussions with attendees to answer questions about the project and DOE's Proposed Action. Displays and other forms of information about the proposed agency action, the EIS process, and Topaz's Proposed Project will also be available for review.

DOE requests that anyone who wishes to present oral comments at the public hearing contact Ms. Colamaria by phone or e-mail [see ADDRESSES]. Individuals who do not make advance arrangements to speak may register at the meeting. Speakers who need more than five minutes should indicate the length of time desired in their request. DOE may need to limit speakers to five minutes initially, but will provide additional opportunities as time permits. Written comments on the Draft EIS can also be submitted to DOE officials at the public hearing.

The public hearing and Question & Answer Open House will be accessible to people with disabilities. In addition, any individual needing specific assistance, such as a sign language interpreter or translator, should contact Ms. Colamaria [see ADDRESSES] at least 48 hours in advance of the hearing so that arrangements can be made.

ADDRESSES: Public comments can be submitted electronically or by U.S. Mail. Written comments on the proposed EIS scope should be signed and addressed to the NEPA Document Manager for this project: Ms. Angela Colamaria, Loan Guarantee Program (LP-10), U.S. Department of Energy, 1000 Independence Avenue, SW., Washington, DC 20585. Electronic submission of comments is encouraged due to processing time required for regular mail. Comments can be submitted electronically by sending an e-mail to: Topaz-EIS@hq.doe.gov. All electronic and written comments should reference the following document number: DOE/EIS-0458.

FOR FURTHER INFORMATION CONTACT: To obtain additional information about this EIS, the public hearing, or to receive a copy of the Draft EIS, contact Angela Colamaria by telephone: 202-287-5387; toll-free number: 800-832-0885 ext. 75387; or electronic mail: Angela.Colamaria@hq.doe.gov. For general information on the DOE NEPA process, please contact: Ms. Carol M. Borgstrom, Director, Office of NEPA Policy and Compliance (GC-54), U.S. Department of Energy, 1000 Independence Avenue, SW., Washington, DC 20585; telephone: 202-586-4600; facsimile: 202-586-7031; electronic mail: askNEPA@hq.doe.gov; or leave a toll-free message at 800-472-2756.

SUPPLEMENTARY INFORMATION: Title XVII of EPAct 2005 established a Federal loan guarantee program for eligible energy projects, and was amended by the American Recovery and Reinvestment Act of 2009 to create Section 1705 of Title XVII (42 U.S.C. 16516), authorizing a new program for rapid deployment of renewable energy projects and related manufacturing facilities, electric power transmission projects, and leading edge biofuels projects. The Section 1705 Program is designed to address the current economic conditions of the nation, in part, through financing such projects.

The Royal Bank of Scotland plc, as Lender-Applicant, with Topaz as the borrower, applied to DOE for a federal loan guarantee under the Solicitation entitled, “Federal Loan Guarantees for Commercial Technology Renewable Energy Generation Projects under the Financial Institution Partnership Program” (Solicitation No. DE-FOA-0000166), issued on October 7, 2009.

The purpose and need for action by DOE is to comply with its mandate under EPAct 2005 by selecting eligible projects that meet the goals of Section 1705 Program, as summarized above. The EIS will inform DOE's decision on whether to issue a loan guarantee to Topaz to support the Proposed Project. DOE's proposed action is to issue a loan guarantee to Topaz to support construction and start-up of the Topaz Solar Farm. The Proposed Project would be located in an unincorporated portion of eastern San Luis Obispo County, California, adjacent to Highway 58 and east of Bitterwater Road. Topaz has options to purchase approximately 10,000 acres of land in the Project area. The Proposed Project would be developed on up to 4,100 acres of land within one of two overlapping study areas.

The Proposed Project would consist of: a solar field of approximately nine million ground-mounted PV modules that collect solar radiation to produce electricity; an electrical collection system that converts generated power from direct current (DC) to alternating current (AC) and delivers it to a new Project substation which collects and converts the generated power from 34.5 kV to 230 kV for delivery via a new PG&E switching station to PG&E's existing Morro Bay-Midway 230-kV transmission line; and the aforementioned PG&E switching station that interconnects the Proposed Project to PG&E's existing transmission line. After construction, PG&E would own and operate the switching station. As part of the Proposed Project, Topaz would also construct and operate a Monitoring and Maintenance Facility and a Solar Energy Learning Center within the Proposed Project's site boundary. The Proposed Project would also include up to 22 miles of on-site access roads as well as leach field and septic systems for the two facilities listed above.

Topaz has interconnection agreements in place for the first 400 MW of Project capacity. The California Independent System Operator has determined that network upgrades would be required to accommodate the Proposed Project's remaining 150 MW, as well as other generation projects in the region. Network upgrades could include the reconductoring of 35 miles of the 230-kV transmission lines between the new PG&E switching station and the Midway Substation. Such upgrades would extend the height of every other existing tower by 20 feet, but would not introduce a new structure.

Alternatives

In determining the range of reasonable alternatives to be considered in the EIS for the Proposed Project, DOE identified the reasonable alternatives that would satisfy the underlying purpose and need for agency action. Rather than being directly responsible for the siting, construction, and operation of respective projects selected in response to solicitations under EPAct 2005, DOE's actions are limited to guaranteeing the debt obligation for the project. Therefore, DOE's overall decision will be to either provide a loan guarantee for the Proposed Project or to decline to provide a loan guarantee (i.e., the No Action alternative, as discussed below). The potential environmental impacts of a No Action alternative, as well as two Project-Specific alternatives, are analyzed in the EIS.

The Project-Specific alternatives include alternate configurations for the solar arrays. Within the Proposed Project site, Topaz identified two Study Areas (Study Area A and Study Area B) that would be suitable for the Proposed Project, although construction of the Proposed Project would take place on only one Study Area if the Proposed Project is approved. DOE analyzed both Study Areas available to Topaz as project-specific alternatives (Project-Specific Alternative A and Project-Specific Alternative B).

Under the No Action alternative, DOE would not provide the loan guarantee to Topaz. In this case, Topaz may have greater difficulty obtaining financing for the Project, which may result in a delay in the start of construction, construction in smaller phases over a longer time period, potentially increased project cost, or could possibly result in the Proposed Project not being built. Although Topaz may still pursue the Project without the loan guarantee, as defined above, for purposes of the Draft EIS analysis, it is assumed that the No Action alternative would result in no Project or in a no build scenario. DOE does not have a preferred alternative at this time, and will identify its preferred alternative in the Final EIS.

Floodplain Assessment

In the October 22, 2010 Notice of Intent to Prepare an Environmental Impact Statement (75 FR 65306), DOE provided notice of a proposed DOE action in a floodplain pursuant to DOE Floodplain and Wetland Environmental Review Requirements (10 CFR Part 1022). Overhead electrical lines would need to cross 100-year floodplains (unnamed drainages within the Carrizo Plain, northwest of Soda Lake). Since some of the floodplains on the project site are greater than 200 feet wide and posts are needed every 200 feet to support overhead lines, the installation of posts within the floodplain is anticipated. DOE has prepared a floodplain assessment as required by DOE regulations. Interested parties may comment on the floodplain assessment, which has been incorporated into the Draft EIS.

Scope of Draft EIS and Environmental Review Process

The DOE prepared this Draft EIS pursuant to the National Environmental Policy Act of 1969, as amended (NEPA), the Council on Environmental Quality (CEQ) NEPA regulations, and the DOE NEPA implementing procedures. The Draft EIS analyzes the environmental consequences that may result from the Proposed Action, including the alternative layout options, and the No Action Alternative. Potential impacts identified during the scoping process and analyzed in the Draft EIS related to the following: Air quality; greenhouse gas emissions and climate change; energy use and production; water resources, including groundwater and surface waters; wetlands and floodplains; geological resources; ecological resources, including species of special concern and threatened and endangered species such as the San Joaquin kit fox, longhorn fairy shrimp and vernal pool fairy shrimp; cultural resources, including historic structures and properties, sites of religious and cultural significance to Tribes, and archaeological resources; land use; visual resources and aesthetics; transportation and traffic; noise and vibration; hazardous materials and solid waste management; human health and safety; accidents and terrorism; socioeconomics, including impacts to community services; environmental justice; and cumulative impacts. Because the Proposed Project may affect listed species under the Endangered Species Act (ESA), DOE has also initiated consultation regarding the project with the U.S. Department of the Interior's Fish and Wildlife Service under Section 7 of the ESA.

The Topaz Proposed Project site is expected to impact waters subject to the jurisdiction of the U.S. Army Corps of Engineers (USACE); therefore the Proposed Project will require a Clean Water Act (CWA) Section 404 Permit. As a result, USACE has participated as a cooperating agency in the preparation of this Draft EIS and will use this EIS (in part) to determine whether to issue a Section 404 permit. USACE will issue a separate decision document on the CWA Section 404 permit for the Proposed Project that will incorporate the environmental analyses from this EIS.

The DOE will use and coordinate the NEPA public comment process to satisfy the public involvement requirements of Section 106 of the National Historic Preservation Act (16 U.S.C. 470f) as provided for in 36 CFR 800.2(d)(3). DOE has invited Federally-recognized American Indian Tribes that have historic interests in the area to also participate in government-to-government consultation regarding the Proposed Project. In addition to these Federally-recognized tribes, the California Native American Heritage Commission provided DOE with a Native American contacts list in the project area. DOE contacted parties on the list to solicit concerns or comments on the Proposed Project.

Availability of the Draft EIS

Copies of the Draft EIS have been distributed to: Members of Congress; Native American Tribal governments, Federal, State, and local officials; and agencies, organizations and individuals who may be interested or affected. The Draft EIS is on the Department of Energy's NEPA Web site at http://www.nepa.energy.gov under “DOE NEPA Documents” and on the Loan Program Office's Web site at http://www.lgprogram.energy.gov/NEPA_EIS.html.

Copies of the Draft EIS are also available for review at the Simmler Public Library/California Valley Community Service District; 13080 Soda Lake Road; California Valley, CA 93453 and the San Luis Obispo County Department of Planning and Building; 976 Osos St. Room 300; San Luis Obispo, CA 93408.

Issued in Washington, DC, on March 25, 2011.
Jonathan M. Silver,
Executive Director, Loan Programs Office.

[FR Doc. 2011-7583 Filed 3-30-11; 8:45 am]

BILLING CODE 6450-01-P